DEPARTMENT OF ENERGY

[Project Nos. 405-106, 405-121]

[Exelon Generation Company, LLC; Notice of Settlement Agreement

Take notice that the following settlement agreement has been filed with the Commission and is available for public inspection.

a. Type of Application: Settlement Agreement.

b. Project Nos.: 405-106 and 405-121.

c. Date Filed: October 29, 2019.

d. Applicant: Exelon Generation Company, LLC.

e. Name of Project: Conowingo Hydroelectric Project.

f. Location: On the Susquehanna River, in Harford and Cecil Counties, Maryland and Lancaster and York Counties, Pennsylvania. The project does not occupy any federal land.

g. Filed Pursuant to: Rule 602 of the Commission's Rules of Practice and Procedure, 18 CFR 385.602.

h. Applicant Contacts: Colleen Hicks, Manager, Regulatory and Licensing, Hydro, Exelon Power, 300 Exelon Way, Kennett Square, PA 19348, at (610) 765-6791 or Colleen.Hicks@exeloncorp.com; and David W. DeBruin, Jenner & Block LLP, 1099 New York Avenue NW, Washington, DC 20001, at (202) 639-6000 or ddebruin@jenner.com.

i. FERC Contacts: Emily Carter, (202) 502-6512 or emily.carter@ferc.gov; and Andy Bernick, (202) 502-8660 or andrew.bernick@ferc.gov.

j. Exelon Generation Corporation, LLC (Exelon) filed a Joint Offer of Settlement and Explanatory Statement (Settlement Agreement) on behalf of itself and the Maryland Department of the Environment (MDE). The Settlement Agreement provides for the resolution of all issues between the signatories associated with MDE's issuance of a water quality certification for the project pursuant to section 401 of the Clean Water Act (certification). The Settlement Agreement includes proposed protection, mitigation, and enhancement measures to address ecological, recreation, and water quality resources affected by the Conowingo Project. The Settlement Agreement also includes, conditioned on the Commission's approval of the Settlement Agreement and incorporation of proposed articles in a new license, a waiver of MDE's certification, and withdrawal of Exelon's February 28, 2019, petition for declaratory order regarding MDE's certification. Exelon requests the Commission approve the Settlement Agreement and incorporate the proposed license articles set forth in Attachment A of the Settlement Agreement, without modification or expansion, into a new, 50-year license for the Conowingo Project.

k. A copy of the Settlement Agreement is available for review on the Commission's website at http://www.ferc.gov using the “eLibrary” link. Enter the docket number, excluding the last three digits, in the docket number field to access the document. For assistance, contact FERC Online Support.

l. Deadline for filing comments: Comments on the Settlement Agreement are due on Tuesday, November 19, 2019. Reply comments are due on Monday, December 2, 2019.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket numbers P-405-106 and -121.

Register online at http://www.ferc.gov/docs-filing/esubscription.asp to be notified via email of new filings and issuances related to this or other pending projects. For assistance, contact FERC Online Support.

Dated: October 30, 2019.
Nathaniel J. Davis, Sr.,
Deputy Secretary.

[FR Doc. 2019-24167 Filed 11-5-19; 8:45 am]

BILLING CODE 6717-01-P